DEPARTMENT OF COMMERCE

Census Bureau

Proposed Information Collection; Comment Request; Center for Economic Studies Research Proposal Process and Project Management

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 14, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Dr. Brian P. Holly, Project Review Coordinator, Center for Economic Studies, U.S Census Bureau, Room 2K139, 4600 Silver Hill Road, Washington, DC 20746 (or via the Internet at brian.p.holly@census.gov).

SUPPLEMENTARY INFORMATION:

I. Abstract

The U.S. Census Bureau through its network of Census Research Data Centers (RDCs) supports and encourages research activity using Census Bureau microdata to improve Census Bureau programs. The RDCs provide access to researchers, federal agencies, and other institutions meeting the requirements of Title 13 United States Code, Section 23(c) to non-publicly available Census Bureau data files. The Center for Economic Studies operates the RDC system on behalf of the Census Bureau.

The objective of the Center for Economic Studies (CES) and the Research Data Centers (RDCs) is to increase the utility and quality of Census Bureau data products. The external research program supported by CES and the RDCs increases the quality and utility of Census data in several ways. First, access to microdata encourages knowledgeable researchers to become familiar with Census data products and Census collection methods. More importantly, providing qualified researchers access to confidential microdata enables research projects that would not be possible without access to respondent-level information. This increases the value of data that has been collected. Access to the microdata also allows for data linking not possible with aggregates, both cross-survey linkages and longitudinal linkages. These linkages leverage the value of preexisting data. Creative use of microdata can address important policy questions without the need for additional data collections.

In addition, the best means by which the Census Bureau can check on the quality of the data it collects, edits, and tabulates is to make its micro records available in a controlled, secure environment to sophisticated users who, by employing the micro records in the course of rigorous analysis, will uncover the strengths and weaknesses of the micro records. Each set of observations is the end result of dozens upon dozens of decision rules covering definitions, classifications, coding procedures, processing rules, editing rules, disclosure rules, and so on. The validity and consequences of all these decision rules only become evident when the Census Bureau's micro databases are tested in the course of analysis. Exposing to the light of research the conceptual and processing assumptions that are embedded in the Census Bureau's micro databases constitutes a core element in the Census Bureau's commitment to quality. CES and the RDCs conduct, facilitate, and support microdata research.

The Proposal Process

Persons wishing to conduct research at a Research Data Center must submit a research proposal using the CES Web site (http://www.ces.census.gov). Detailed guidelines describe the research proposal submission process. There are two distinct steps to submit a research proposal. The first step is the development of a preliminary proposal. The second step is the submission of a final proposal.

Preliminary Proposal Development

Researchers who wish to develop a proposal to conduct research at one of the Census Bureau's Research Data Centers (RDC) initially contact the RDC administrator at the center where the research will be conducted. The researcher discusses the proposed project with the administrator to determine whether the research fits with the Bureau's mission, is feasible, and is likely to provide benefits to Census Bureau programs under Title 13, Chapter 5 of the U.S. Code. The researcher registers as a user with CES by opening an account through the Center's Web site (http://www.ces.census.gov). All researchers must have a user account in order to submit preliminary and final proposals to CES.

Working closely with the RDC administrator, researchers develop a preliminary research proposal that includes information about the researcher(s), RDC location(s) where the research will be carried out, purpose of the research, funding source, requested datasets, desired software, a brief narrative description of the research project and proposed benefits to the Census Bureau. The researcher enters this information via the CES on-line proposal management system accessible on the CES Web site.

Once a preliminary proposal has been submitted, the RDC administrator reviews it and advises the researcher of any suggestions for improvement. The administrator must approve the preliminary proposal before the researcher can submit a final proposal to CES.

Final Proposal Submission

The final proposal consists of three separate documents in Adobe Acrobat Portable Document Format (PDF): (1) Abstract of the proposal, (2) Project description (full proposal), and (3) Statement of benefits to the Census Bureau. The submitter uploads the final documents to the CES management system via his or her user account and submits for Census Review by clicking on the Submit link button. This locks the project entry to prevent further edits or document uploads.

Document length varies by type. The abstract is limited to one page, the proposal narrative is limited to fifteen pages single-spaced or thirty pages double spaced, and the benfits statement can range from five to as much as twelve pages at the submitter's discretion.

Progress Reports

Each project research team is expected to file annual progress reports and agrees to submit a final project report called a Post Project Certification (PPC). The annual progress reports vary in length and content and have no fixed format. The Post Project Certification follows a fixed format and is initially generated as a template by the project management system.

II. Method of Collection

User Account. Individuals create a user account on the CES Project Management System by visiting the CES Web site (http://www.ces.census.gov/index/php) and click on the “Register” link on the front page. A template appears which requests contact information from the respondent, including name, mailing address, e-mail address, telephone, professional affiliation, and citizenship. Some fields are required and others are voluntary. The information is retained in the system database and periodically modified by authorized CES staff when needed for activating the user's status on an approved research project. Users can update their contact information in their account at any time.

Research Project Information Template. Individuals with valid user accounts may create a research project entry in the system by clicking on the link “Start a New Proposal.” This action opens a template where the user enters required information about a research project he or she wishes to carry out at a Census Bureau Research Data Center (RDC). The first page consists of a six-item prerequisite checklist to which the user must agree before being allowed to proceed to the next page. The second page requests the following information: project title, requested duration in months, funding source, Research Data Center, research personnel (selected from a list of current user accounts), brief project description, requested research datasets supplied by Census, research datasets supplied by filer, proposed benefits (from checklist of 13 permitted) and a text box for additional information the filer wishes to include. The filer clicks on a continue button to move to a verification page. The filer can reset the form contents at any time. The filer then verifies the entered information and saves the project information to the database. The system assigns a project number, and sets the project's status to NEW.

Research Proposal Documents.

• Abstract—A one-page document that summarizes the project's objectives, describes requested data, and lists proposed benefits to the Census Bureau.

• Project Narrative—Describes in detail the research question(s) to be addressed, Census Bureau and researcher supplied datasets to be used, a description of the research design (methodology, hypotheses, statistical models), expected duration and outsomes, source of funding, and a list of references cited in the text.

• Benefits Statement—Known formally as the Predominant Purpose Statement (PPS), this document is generated in draft form by the system. It is populated with some standard language, project title, Principle Investigator's name, preselected benefits, and a list of requested Census Bureau datasets. This document is editable by the submitter, primarily to expand upon the narrative statements associated with each proposed benefit.

• Annual Progress Report—Required for projects of three or more years in duration. Consists of a brief description of progress to date.

• Post Project Certification—This document is submtted following completion of the project and summarizes the project's findings in terms of benefits to the Census Bureau. It resembles the Predominant Purpose Statement in form and content except that it describes how and whether the project's proposed benefits were achieved. Census Bureau staff review this document and either certify it or send it back to the submitter for revision.

Approved research projects have an average duration of four years.

III. Data

OMB Control Number: None.

Form Number: None.

Type of Review: Regular submission.

Affected Public: Individuals.

Estimated Number of Respondents: 60 projects per year.

Estimated Time Per Response: 63 hours annually.

Estimated Total Annual Burden Hours: 3,780.

Estimated Total Annual Cost: $173,625.

Respondent's Obligation: Voluntary.

Legal Authority: Title 13 U.S.C., Section 9 and Section 23(c).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 10, 2010.
Glenna Mickelson,
Management Analyst, Office of the Chief Information Officer.

[FR Doc. 2010-31471 Filed 12-14-10; 8:45 am]

BILLING CODE 3510-07-P